DEPARTMENT OF TRANSPORTATION

Federal Aviation Administration

14 CFR Part 39

[Docket No. FAA-2020-0336; Product Identifier 2020-NM-032-AD; Amendment 39-21280; AD 2020-21-07]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A350-941 and -1041 airplanes. This AD was prompted by a report that sticking effects have been observed affecting the breathing bag on certain passenger oxygen masks. This AD requires replacement of affected passenger oxygen masks, as specified in a European Union Aviation Safety Agency (EASA) AD, which is incorporated by reference. The FAA is issuing this AD to address the unsafe condition on these products.

DATES: This AD is effective November 18, 2020.

The Director of the Federal Register approved the incorporation by reference of a certain publication listed in this AD as of November 18, 2020.

ADDRESSES: For material incorporated by reference (IBR) in this AD, contact the EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195.

Examining the AD Docket

You may examine the AD docket on the internet at https://www.regulations.gov by searching for and locating Docket No. FAA-2020-0336; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; phone and fax: 206-231-3218; email: kathleen.arrigotti@faa.gov.

SUPPLEMENTARY INFORMATION:

Discussion

The EASA, which is the Technical Agent for the Member States of the European Union, has issued EASA AD 2020-0031, dated February 18, 2020 (“EASA AD 2020-0031”) (also referred to as the Mandatory Continuing Airworthiness Information, or “the MCAI”), to correct an unsafe condition for all Airbus SAS Model A350-941 and -1041 airplanes.

The FAA issued a notice of proposed rulemaking (NPRM) to amend 14 CFR part 39 by adding an AD that would apply to all Airbus SAS Model A350-941 and -1041 airplanes. The NPRM published in the Federal Register on April 27, 2020 (85 FR 23257). The NPRM was prompted by a report that sticking effects have been observed affecting the breathing bag on certain passenger oxygen masks. The NPRM proposed to require replacement of affected passenger oxygen masks, as specified in an EASA AD.

The FAA is issuing this AD to address sticking of the breathing bag on certain passenger oxygen masks, which could prevent the breathing bag from fully inflating, and possibly injure cabin occupants following a depressurization event. See the MCAI for additional background information.

Comments

The FAA gave the public the opportunity to participate in developing this final rule. The following presents the comments received on the NPRM and the FAA's response to each comment.

Request To Allow Records Review or Visual Inspection

Delta Air Lines, Inc. (DAL) requested that the FAA include a provision in the NPRM to allow a records review or visual inspection in lieu of a detailed inspection of the affected parts. DAL pointed out that the Airbus service information associated with EASA AD 2020-0031 specifies doing a detailed inspection of the affected parts for the affected serial numbers. DAL mentioned that previous Airbus service information for similar unsafe conditions have allowed alternative means to determine whether parts were affected by the unsafe condition.

The FAA agrees that clarification is necessary. The FAA has determined that a review of airplane maintenance records or visual inspection is acceptable in lieu of a detailed inspection if the part number, amendment number, and serial number of the passenger oxygen mask can be conclusively determined from that review. EASA AD 2020-0031, does not specify any inspection, but instead specifies replacement of affected parts with affected serial numbers. Because EASA AD 2020-0031 does not specify doing an inspection, it is not necessary to specify alternative inspection methods in this AD. However, to be clear, paragraph (h) of this AD has been revised to include an exception to EASA AD 2020-0031, stating that this AD only requires the replacement and does not require the inspection for the part number and serial number.

Request for Exception To Limit Service Information

DAL requested that the FAA add an exception in paragraph (h) of the proposed AD to specify doing the assembly/installation and re-identification of parts using paragraphs 3.C. and 3.D. of the Accomplishment Instructions of the B/E Aerospace Systems service information where paragraph (1) of EASA AD 2020-0031 specifies doing the actions “. . . in accordance with the instructions of the SB.” DAL pointed out that the Airbus service information specified by EASA AD 2020-0031 refers to B/E Aerospace Systems service information, which specifies non-explicit instructions for removal/disassembly and appears to conflict with the Airbus service information that specifies “modification.” DAL expressed its opinion that the modification specified in the Airbus service information should actually be the replacement of the E75000-00 series mask assemblies in affected container assemblies with re-identification of the container assemblies.

The FAA disagrees with the commenter's request. The FAA has considered the potential for conflicts introduced from other referenced service information. However, this AD requires using EASA AD 2020-0031 as the appropriate source of service information, which overrides any conflicting information specified in other referenced service information. Further, while the terminology in the Airbus service information differs from that in the B/E Aerospace Systems service information, it is clear that the Airbus service information specifies accomplishing the B/E Aerospace Systems service information, so restating that information in this AD is unnecessary. This AD has not been revised in this regard.

Request To Add an Exception To Clarify That Checking for Date of Manufacture Is Not Required

DAL requested that the FAA add an exception in paragraph (h) of the proposed AD to clarify that checking for the date of manufacture is not required. DAL mentioned that the Accomplishment Instructions of the B/E Aerospace Systems service information include an additional inspection for the date of manufacture of the affected part that neither EASA AD 2020-0031 nor the Airbus service information specify. DAL expressed concern that inspection for the date of manufacture was not considered as part of the NPRM. Delta contended that the date of manufacture inspection specified in the Accomplishment Instructions of the B/E Aerospace Systems service information is not required by EASA AD 2020-0031.

The FAA infers that the commenter requests an exception in the proposed AD to specify that the date of manufacture inspection specified in the Accomplishment Instructions of the B/E Aerospace Systems service information is not required. The FAA agrees for the reasons provided and has added an exception in paragraph (h)(4) of this AD to specify that the date of manufacture inspection specified in the Accomplishment Instructions of the B/E Aerospace Systems service information is not required.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2020-0031 describes procedures for replacement of affected passenger oxygen masks. This material is reasonably available because the interested parties have access to it through their normal course of business or by the means identified in the ADDRESSES section.

Costs of Compliance

The FAA estimates that this AD affects 13 airplanes of U.S. registry. The FAA estimates the following costs to comply with this AD:

Estimated Costs for Required Actions
Labor cost | Parts cost | Cost per product | Cost on U.S. operators
6 work-hours × $85 per hour = $510 | $0 * | $510 | $6,630
* The FAA has received no definitive data that would enable the FAA to provide cost estimates of the parts cost for the replacement specified in this AD.

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-21-07 Airbus SAS: Amendment 39-21280; Docket No. FAA-2020-0336; Product Identifier 2020-NM-032-AD.

(a) Effective Date

This AD is effective November 18, 2020.

(b) Affected ADs

None.

(c) Applicability

This AD applies to all Airbus SAS Model A350-941 and -1041 airplanes, certificated in any category.

(d) Subject

Air Transport Association (ATA) of America Code 35, Oxygen.

(e) Reason

This AD was prompted by a report that sticking effects have been observed affecting the breathing bag on certain passenger oxygen masks. The FAA is issuing this AD to address sticking of the breathing bag on certain passenger oxygen masks, which could prevent the breathing bag from fully inflating, and possibly injure cabin occupants following a depressurization event.

(f) Compliance

Comply with this AD within the compliance times specified, unless already done.

(g) Requirements

Except as specified in paragraph (h) of this AD: Comply with all required actions and compliance times specified in, and in accordance with, European Union Aviation Safety Agency (EASA) AD 2020-0031, dated February 18, 2020 (“EASA AD 2020-0031”).

(h) Exceptions to EASA AD 2020-0031

(1) Where EASA AD 2020-0031 refers to its effective date, this AD requires using the effective date of this AD.

(2) The “Remarks” section of EASA AD 2020-0031 does not apply to this AD.

(3) Where EASA AD 2020-0031 specifies to do the replacement specified in Airbus Service Bulletin A350-35-P013, Revision 00, dated July 2, 2019, which specifies to inspect for the part number and serial number and then do a replacement; this AD only requires the replacement.

(4) Where paragraphs 3.B. and 3.C. of the Accomplishment Instructions of B/E Aerospace Systems Service Bulletin E75000-35-001, Revision 00, dated November 25, 2016, state to do an inspection for the date of manufacture of the affected part, this AD does not require that inspection.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0031 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Kathleen Arrigotti, Aerospace Engineer, Large Aircraft Section, International Validation Branch, FAA, 2200 South 216th St., Des Moines, WA 98198; phone and fax: 206-231-3218; email: kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0031, dated February 18, 2020.

(ii) [Reserved]

(3) For EASA AD 2020-0031, contact the EASA, Konrad-Adenauer-Ufer 3, 50668 Cologne, Germany; phone: +49 221 8999 000; email: ADs@easa.europa.eu; internet: www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0336.

(5) You may view this material that is incorporated by reference at the National Archives and Records Administration (NARA). For information on the availability of this material at NARA, email fedreg.legal@nara.gov, or go to: https://www.archives.gov/federal-register/cfr/ibr-locations.html.

Issued on October 1, 2020.
Lance T. Gant,
Director, Compliance & Airworthiness Division, Aircraft Certification Service.

[FR Doc. 2020-22628 Filed 10-13-20; 8:45 am]

BILLING CODE 4910-13-P